DEPARTMENT OF EDUCATION

Office of Special Education and Rehabilitative Services; Overview Information; Technical Assistance and Dissemination To Improve Services and Results for Children With Disabilities—National Center on Postsecondary Outcomes for Students With Disabilities; Notice Inviting Applications for New Awards for Fiscal Year (FY) 2009.

Catalog of Federal Domestic Assistance (CFDA) Number: 84.326U.

DATES: Applications Available: July 17, 2009.

Deadline for Transmittal of Applications: August 17, 2009.

Deadline for Intergovernmental Review: August 26, 2009.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute (see sections 663 and 681(d) of the Individuals with Disabilities Education Act (IDEA), 20 U.S.C. 1400 et seq.).

Absolute Priority: For FY 2009 and any subsequent year in which we make awards from the list of unfunded applicants from this competition, this priority is an absolute priority. Under 34 CFR 75.105(c)(3), we consider only applications that meet this priority.

This priority is:

Technical Assistance and Dissemination To Improve Services and Results for Children With Disabilities—National Center on Postsecondary Outcomes for Students With Disabilities.

Background: In order to monitor and assess the effectiveness of programs and services provided under Part B of IDEA, and to improve postsecondary outcomes for students with disabilities (such as competitive employment or enrollment in some type of postsecondary school), collection, organization, and analysis of accurate data on postsecondary outcomes are necessary at both the Federal and State levels. A U.S. Government Accountability Office (GAO) study (GAO-03-773) entitled “Special Education: Federal Actions Can Assist States in Improving Postsecondary Outcomes for Youth,” released on July 30, 2003, underscored the need for more information to assess postsecondary outcomes for students with disabilities. This study found that while a majority of students receiving IDEA services completed high school with a diploma, a lack of accurate data has made it difficult to determine what happens to these students after they leave high school.

In their IDEA Annual Performance Reports (APRs), States are currently required to report postsecondary outcome data on students who received IDEA services (in response to Indicator 14). The outcome data must include all students who received IDEA services and are no longer in secondary school, including those who have been competitively employed, are enrolled in some type of postsecondary school, or both, within one year after leaving high school (20 U.S.C. 1416(a)(3)(B)). In order to address Indicator 14, States must gather data on the competitive employment and postsecondary education experiences of these students, including students who have dropped out or aged out, one year after leaving school, either by: (a) Conducting a census (surveying all students who received IDEA services and are no longer in secondary school (referred to in this document as “school leavers”)); or (b) using sampling techniques to establish a target group of respondents. The following Web site provides more information on Indicator 14: http://www.ed.gov/policy/speced/guid/idea/bapr/index.html.

For a number of years, the Department's Office of Special Education Programs (OSEP) has supported States in their ongoing efforts to develop and improve systems to collect and use postsecondary outcome data for accountability, decisionmaking, and program improvement purposes. For example, in 2004, OSEP funded the National Post-School Outcomes Center for Students with Disabilities to help States develop and implement practical, efficient, cost-effective, and sustainable strategies to collect and use outcome data to improve secondary education, transition, and postsecondary outcomes for students with disabilities. The following Web site provides more information on the work of the National Post-School Outcomes Center: http://www.psocenter.org/.

In addition, with the enactment of the American Recovery and Reinvestment Act of 2009 (ARRA), Congress and the new Administration recently signaled their collective interest in ensuring that States and local educational agencies (LEAs) take steps to improve the collection and use of data. Specifically, in order to be eligible for funding under the State Fiscal Stabilization Fund (SFSF), Governors must submit an application containing an assurance that “the State will establish a longitudinal data system that includes the elements described in section 6401(e)(2)(D) of the America COMPETES Act (20 U.S.C. 9871).” Through the ARRA, Congress also appropriated $250 million for the Department's Statewide Longitudinal Data Systems (SLDS) grant program.¹ These funds may be used “for Statewide data systems that include postsecondary and workforce information.”

¹ The purpose of the SLDS grant program is to support States that seek to plan, develop, implement, or expand a statewide longitudinal data system. Such expansion may include, but is not limited to, developing interoperability with postsecondary data systems, creating consolidated P-16 data systems, and importing workforce data. The following Web site provides more information on the SLDS grant program: http://nces.ed.gov/programs/SLDS/index.asp.

While not all States have yet developed and implemented such statewide longitudinal data systems, between the assurances required under the SFSF and the additional $250 million appropriated for the SLDS program under the ARRA, the Department anticipates a great deal of State-level activity in this area over the next few years. As States work to develop and expand longitudinal data systems, it will be important that such systems are designed to collect and produce valid, reliable, and accurate data that meet the information needs, to the extent feasible, for implementing and reporting on Federal programs—including data related to programs and services under Part B of IDEA, such as the post-school outcome data required for purposes of Indicator 14.

In accordance with the goals recently identified by the Administration under the SFSF and ARRA, States and other entities should move away from their reliance on stand-alone data collections and move toward more centralized and cost-effective data collections. Meanwhile, though, States must continue collecting and submitting required annual data on key outcomes under Federal programs, including Part B of the IDEA.

For purposes of collecting Indicator 14 data, while States have made progress in developing and implementing data collection and dissemination systems to conduct survey research and collect, analyze, and disseminate the results from this survey research in a timely manner, there is still an ongoing need for technical assistance to support State efforts to produce valid, reliable, and accurate postsecondary outcome data.

To obtain the necessary data for Indicator 14, roughly half of States currently use sampling techniques to establish a target group of respondents and the rest employ census methods (surveying all school leavers). However, across both sampling and census methods, States have faced ongoing difficulty securing a response rate that will ensure that the responding group is representative of the State's school leavers—that is, representative in terms of racial demographics, disability group, and circumstances for leaving school. To address such technical challenges, States continue to need support in: (a) Improving and implementing data systems that will help them attain a group of respondents who are representative of the State's school leavers; and (b) overcoming challenges in contacting these school leavers, including students who have dropped out of school. In addition, States need support in disaggregating and utilizing postsecondary outcome data at the local level for accountability, decisionmaking, and program improvement purposes.

For these reasons, the Department proposes to support a new National Center on Postsecondary Outcomes that will: (1) Provide ongoing support to help States overcome challenges associated with existing data collections that are used to obtain post-school outcome data for Indicator 14; and (2) support and promote State efforts to ensure that data for Indicator 14 may eventually be collected through consolidated (or linkable) statewide longitudinal data systems.

Priority: The purpose of this priority is to fund a cooperative agreement to support the establishment and operation of a National Center on Postsecondary Outcomes for Students with Disabilities (Center) that will provide technical assistance and disseminate useful information to States on: (1) Improving the efficiency, cost-effectiveness, and technical adequacy of postsecondary outcome data collections and implementing the improved data collections; (2) producing valid, reliable, and accurate data for reporting on Indicator 14; (3) collecting data for Indicator 14 from State longitudinal data systems; and (4) using postsecondary outcome data to strengthen accountability, decisionmaking, and program improvement systems related to improving postsecondary outcomes for students receiving IDEA services.

To be considered for funding under this absolute priority, applicants must meet the application requirements contained in this priority. The project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC, within four weeks after receipt of the award, and an annual planning meeting held in Washington, DC, with the OSEP Project Officer during each subsequent year of the project period.

(2) A three-day Project Directors' Conference in Washington, DC, during each year of the project period.

(3) A four-day Technical Assistance and Dissemination (TA&D) Conference in Washington, DC, during each year of the project period.

(4) One two-day trip annually to attend Department briefings, Department-sponsored conferences, and other meetings, as requested by OSEP; and

(e) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities.

(a) Review annually the technical adequacy of all States' Indicator 14 data collection methods. For States using sampling methods, this includes ensuring that the States' samples, or target groups of respondents, are representative of the State's respective school leavers—that is, in terms of racial demographics, disability group, age, gender, and circumstances for leaving. The results of this analysis must be shared with the OSEP Project Officer and used by the Center to determine the type of TA that States need.

(b) Design a plan to support all States in gathering and reporting Indicator 14 data from a consolidated or linkable State data warehouse of longitudinal data (e.g., SLDS).

(c) Identify specific student level data elements needed to accurately report Indicator 14 data in open source resources such as the voluntary standards and guidelines of the National Center for Education Statistics and the specifications of the Schools Interoperability Framework Association to ensure valid, reliable, and accurate data.

Technical Assistance and Dissemination Activities.

(a) Provide general TA to States to assist them with:

(1) Improving their data collection and dissemination systems used to obtain accurate postsecondary outcome data.

(2) Developing and implementing effective procedures for collecting postsecondary outcome data from LEAs and helping States utilize these procedures.

(3) Disaggregating and analyzing the postsecondary outcome data collected on students receiving IDEA services to drive decisionmaking at the local level that will lead to valid, reliable, and accurate data and program improvement.

(b) Analyze State SPP/APR Indicator 14 submissions to determine those States that lack firmly established data collection and dissemination systems and thus have the most need for TA.

(c) Provide TA to States, including States with projects funded under the SLDS grants program. This TA must be designed to help ensure that statewide data systems include data concerning students receiving IDEA services for the Part B Indicator 14 collection and for reporting on post-school outcomes required by IDEA. TA may be provided through the use of video conferences, teleconferences, or onsite meetings.

(d) Conduct two regional meetings each year of the project period focused on providing training and information related to data collection and the use of data to make informed decisions to improve secondary education, transition, and postsecondary outcomes to State educational agency (SEA) and LEA staff.

(e) Identify a minimum of five States to partner with in each year of the project period. The Center must obtain approval from OSEP before making the final selection of partnering States. Once a State is selected as a partner, the Center will continue working with the State for the entire project period. (The Center will work intensively with five States the first year, five more States the second year, etc. so that at the end of the project period, it is working or has worked with 25 States in total.) The Center must provide each partnering State with TA in its first year of working with the Center. This TA must include a thorough analysis of the State's needs as well as frequent communication between the Center and the State in determining how these needs can be met. The TA may be provided through multiple site visits, videoconferencing, or other means. After providing the first year of TA to the State, the Center must analyze the State's Indicator 14 data annually for the remaining project period to determine the level of TA the State needs.

(f) Provide a continuum of general TA&D activities (e.g., managing Web sites, listservs, and communities of practice, and holding conferences and training institutes) on evidence-based practices that promote the use of postsecondary outcome data for accountability, decisionmaking, and program improvement.

(g) Maintain a Web site that meets government or industry-recognized standards for accessibility and that links to the Web site operated by OSEP's Technical Assistance Coordination Center (TACC).

(h) Prepare and disseminate reports and other materials on data collection, accountability, decisionmaking, program improvement, and related topics as requested by OSEP. In consultation with the OSEP Project Officer, make selected reports, documents, and other materials available for parents, educators, service providers, members of professional organizations and advocacy groups, researchers, and others, as appropriate.

(i) Develop materials and guidance for States and provide targeted TA related to their SPP and APR performance and compliance indicator(s), as requested by OSEP.

Leadership and Coordination Activities.

(a) Sponsor a series of joint meetings with representatives from the Data Quality Campaign, the Council of Chief State School Officers' Education Information Management Advisory Consortium (EIMAC), the Longitudinal Student Data Systems Task Force and its Special Education Subcommittee, the U.S. Department of Education's Family Policy and Compliance Office, the U.S. Department of Labor, vocational rehabilitation services, postsecondary institutions and other stakeholders to discuss and identify:

(1) Methods to obtain data on students who leave the State for postsecondary education, employment, or other purposes.

(2) Standards and best practices necessary to allow States to share data on Indicator 14 by querying their higher education and unemployment databases.

(3) Available databases that could potentially provide Indicator 14 data, including unemployment system and wage records, the National Student Clearinghouse, and other systems related to data collection and the use of data to make informed decisions to improve secondary education, transition, and postsecondary outcomes.

(b) Compile and share data from States' APRs and updated SPPs for IDEA Part B Indicator 14 by—

(1) Reviewing relevant sections of each State's APR and updated SPP and summarizing the data on this indicator;

(2) Developing a summary report for Indicator 14 that includes information about States' progress in meeting targets for the indicator as well as any revisions made to States' data collection; and

(3) Providing this summary report to OSEP in a timely manner and participating in OSEP-requested teleconferences to discuss the findings of the summary report.

(c) Establish and maintain an advisory committee to review the activities and outcomes of the Center and provide programmatic support and advice throughout the project period. At a minimum, the advisory committee must meet on an annual basis in Washington, DC, and consist of representatives from SEAs and LEAs, large scale data specialists, individuals with disabilities, educators, parents of individuals with disabilities, vocational rehabilitation, labor and postsecondary representatives, and service providers that work with transitioning youth and adults with disabilities. The Center must submit the names of proposed members of the advisory committee to OSEP for approval within eight weeks after receipt of the award.

(d) Communicate and collaborate, on an ongoing basis, with other projects funded by the Office of Special Education and Rehabilitative Services, including the National Dropout Prevention Center for Students with Disabilities, the National Secondary Transition Technical Assistance Center, the National High School Center (jointly funded with the Office of Elementary and Secondary Education), Parent Centers, the Regional Resource Centers, the Data Accountability Center (DAC), IDEA Partnership Project, and related projects funded by the Rehabilitation Services Administration, the National Institute on Disability and Rehabilitation Research, and IES. This collaboration could include the joint development of products, the coordination of TA services, and the planning and carrying out of TA meetings and events. The Center must collaborate with DAC on the analysis of the technical adequacy of States' Indicator 14 sampling plans.

(e) Participate in, organize, or facilitate, as directed by OSEP, communities of practice (CoP) that are aligned with the Center's objectives as a way to support discussions and collaboration among key stakeholders. The following Web site provides information on CoP: http://www.tacommunities.org/.

(f) Prior to developing any new product, whether paper or electronic, submit to the OSEP Project Officer and the Proposed Product Advisory Board at OSEP's TACC for approval a proposal describing the content and purpose of the product.

(g) Coordinate with the National Dissemination Center for Individuals with Disabilities to develop an efficient and high quality dissemination system that reaches broad audiences. The Center must report to the OSEP Project Officer the outcomes of these coordination efforts.

(h) Contribute, on an ongoing basis, updated information on the Center's services to OSEP's Technical Assistance and Dissemination Matrix (matrix.rrfcnetwork.org/), which provides current information on Department-funded TA services to a range of stakeholders.

(i) Maintain ongoing communication with the OSEP Project Officer through monthly phone conversations and e-mail communication.

(j) Conduct a summative evaluation of the Center in collaboration with the Center to Improve Project Performance (CIPP) as described in the following paragraphs. This summative evaluation must examine the outcomes or impact of the Center's activities in order to assess the effectiveness of those activities.

Note: The major tasks of CIPP are to guide, coordinate, and oversee the summative evaluations conducted by selected Technical Assistance, Personnel Development, Parent Training and Information Center, and Technology projects that individually receive $500,000 or more funding from OSEP annually. The efforts of CIPP are expected to enhance individual project evaluations by providing expert and unbiased assistance in designing evaluations, conducting analyses, and interpreting data.

To fulfill the requirements of the summative evaluation to be conducted under the guidance of CIPP, the Center must—

(1) Hire or designate, with the approval of the OSEP Project Officer, a project liaison staff person with sufficient dedicated time, experience in evaluation, and knowledge of the Center to work with CIPP on the following tasks:

(i) Planning the Center's summative evaluation (e.g., selecting evaluation questions, developing a timeline for the evaluation, locating sources of relevant data, and refining the logic model used for the evaluation).

(ii) Developing the summative evaluation design and instrumentation (e.g., determining quantitative or qualitative data collection strategies, selecting respondent samples, and pilot testing instruments).

(iii) Coordinating the evaluation timeline with the implementation of the Center's activities.

(iv) Collecting summative data; and

(v) Writing reports of summative evaluation findings;

(2) Cooperate with CIPP staff in order to accomplish the tasks described in paragraph (1) of this section; and

(3) Dedicate $40,000 of the annual budget request for this project to cover the costs of carrying out the tasks described in paragraphs (1) and (2) of this section, implementing the Center's formative evaluation and traveling to Washington, DC, in the second year of the project period for the Center's review for continued funding.

Fourth and Fifth Years of the Project: In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practices in SEA and LEA accountability, decisionmaking, and program improvement in the area of postsecondary outcomes for students with disabilities.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative Agreement.

Estimated Available Funds: $800,000.

Maximum Award: We will reject any application that proposes a budget exceeding $800,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA number 84.326U.

Individuals with disabilities can obtain a copy of the application package in an accessible format (e.g., Braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: July 17, 2009.

Deadline for Transmittal of Applications: August 17, 2009.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 26, 2009.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.326U), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326U), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high quality products and services, the relevance of project products and services to educational and early intervention policy and practice, and the use of products and services to improve educational and early intervention policy and practice.

Grantees will be required to provide information related to these measures.

Grantees also will be required to report information on their project's performance in annual reports to the Department (34 CFR 75.590).

VII. Agency Contact

For Further Information Contact: Selete Avoke, U.S. Department of Education, 400 Maryland Avenue, SW., room 4120, Potomac Center Plaza (PCP), Washington, DC 20202-2550. Telephone: (202) 245-7260.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: July 14, 2009.
Andrew J. Pepin,
Executive Administrator for Special Education and Rehabilitative Services.

[FR Doc. E9-17126 Filed 7-16-09; 8:45 am]

BILLING CODE 4000-01-P